DEPARTMENT OF AGRICULTURE

Food And Nutrition Service

Agency Information Collection Activities: Proposed Collection; Comments Request—Nutrition Assistance in Farmers' Markets: Understanding the Shopping Patterns of SNAP Participants

AGENCY: Food and Nutrition Service (FNS), United States Department of Agriculture (USDA).

ACTION: Notice.

SUMMARY: In accordance with the Paperwork Reduction Act of 1995, this notice invites the public and other public agencies to comment on this proposed information collection. This is a revision to a previous data collection regarding Farmers' Market Operations. The purpose of this collection is for the Food and Nutrition Service to examine the reasons behind the shopping decision at farmers' markets among recipients of Supplemental Nutrition Assistance Program (SNAP) benefits.

DATES: Written comments must be received on or before February 21, 2012.

ADDRESSES: Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including use of appropriate automated, electronic, mechanical, or other technological collection techniques or other forms of information technology.

Comments may be sent to: Steven Carlson, Office of Research and Analysis, Food and Nutrition Service/USDA, 3101 Park Center Drive, Room 1014, Alexandria, VA 22302. Comments may also be submitted via fax to the attention of Steven Carlson at (703) 305-2017 or via email to Steve.Carlson@fns.usda.gov. Comments will also be accepted through the Federal eRulemaking Portal. Go to http://www.regulations.gov and follow the online instructions for submitting comments electronically.

All written comments will be open for public inspection at the Office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collected should be directed to Steven Carlson at (703) 305-2017.

SUPPLEMENTARY INFORMATION:

Title: Nutrition Assistance in Farmers' Markets: Understanding the Shopping Patterns of SNAP Participants.

OMB Number: 0564-Revision.

Expiration Date of Approval: 11/30/2014.

Abstract: The USDA, Food and Nutrition Service (FNS), is pursuing initiatives to improve access to healthy foods among nutrition assistance program clients. Among these are steps to support access to fresh fruits and vegetables through farmers' markets. The overall objective of this collection is to promote opportunities for nutrition assistance program clients to take advantage of farmers' markets. In order to meet this objective, FNS needs to examine the reasons behind the shopping decision at farmers' markets among recipients of Supplemental Nutrition Assistance Program (SNAP) benefits. To this end, FNS is conducting a survey with SNAP participants who purchase food in a catchment area around a nationally representative sample of farmers' markets that redeemed at least $1,000 in SNAP benefits from July 2010 through June 2011. This survey will be implemented with a sample of SNAP participants from two groups that are of particular interest to FNS:

1. SNAP participants who used their EBT card at a farmers' market in the past year; and

2. SNAP participants who have not used their EBT card at a farmers' market in the past year.

The data collection activities to be undertaken subject to this notice include:

• The questionnaire will be administered to SNAP participants represented in the two categories of participants above. First, a hard-copy survey will be mailed to SNAP participants, and they will be asked to return it in a postage-paid envelope. Those with bad addresses and those who do not respond to the mailing will be contacted by telephone and will be given an option to complete a telephone interview.

• To supplement the survey data, twelve focus groups will be conducted with SNAP participants. Three groups will be held with English-language users of EBT cards at farmers' markets, three groups will be held with Spanish-language users of EBT cards at farmers' markets, three groups will be held with English-language non-users of their EBT card at a farmers' market, and three groups will be held with Spanish-language non-users of their EBT card at a farmers' market.

Affected Public: Respondent groups identified include: Individuals/Households (SNAP clients).

Estimated Number of Respondents: The total number of respondents is 4,806. This includes 3,750 SNAP participants (80% who will complete interviews) and 1,056 SNAP participants (96 will participate in the focus group discussions).

Estimated Number of Responses per Respondent: SNAP participants will complete the survey one time. SNAP participants will attend the focus group once.

Estimated time per Response: SNAP participants who have used their EBT card at a farmers' market in the past year will take approximately 20 minutes (.3333 hours) to complete the survey. SNAP participants who have not used their EBT card at a farmers' market in the past year will take approximately 25 minutes (.4166 hours) to complete the survey. Each SNAP participant will participate in the focus group discussion for approximately 1.5 hours.

Estimated Total Annual Burden on Respondents: 1,374 hours. See the table below for estimated total annual burden for each type of respondent.

Estimated annualized burden hours
Respondent | Number of respondents | Number of responses per respondent | Estimated total annual responses | Average burden per response (in hours) | Total burden (in hours)
SNAP Client Survey
SNAP clients who used EBT card at farmers' market:
Completed | 1,000 | 1 | 1,000 | .3333 | 333.30
Attempted | 250 | 1 | 250 | .0333 | 8.33
SNAP clients who did not use EBT card at farmers' market:
Completed | 2,000 | 1 | 2,000 | .4166 | 833.20
Attempted | 500 | 1 | 500 | .0333 | 16.65
Survey Total | 3,750 |  | 3,750 |  | 1,191.48
Focus Group with SNAP Clients
Recruitment Screener:
Completed | 120 | 1 | 120 | .0835 | 10.02
Attempted | 840 | 1 | 840 | .0334 | 28.06
Focus Group Discussion:
Completed | 96 | 1 | 96 | 1.50 | 144.00
Attempted | 0 | 1 | 0 |  |
Focus Group Total | 1,056 |  | 1,056 |  | 182.08
Total | 4,806 |  | 4,806 |  | 1,373.56

Dated: December 15, 2011.
Audrey Rowe,
Administrator, Food and Nutrition Service.

[FR Doc. 2011-32798 Filed 12-21-11; 8:45 am]

BILLING CODE 3410-30-P